DEPARTMENT OF ENERGY

Federal Energy Regulatory Commission

[Project No. 2545-071 Washington]

Avista Corporation; Notice of Availability of Environmental Assessment

July 3, 2001.

In accordance with the National Environmental Policy Act of 1969 and the Federal Energy Regulatory Commission's (Commission) regulations, 18 CFR Part 380 (Order No. 486, 52 F.R. 47910), the Office of Energy Projects has reviewed Avista Corporation's application to waive for 4.5 months the aesthetic flow requirements at the Monroe Street development of the Spokane River Hydroelectric Project, located on the Spokane River in Lincoln, Stevens, and Spokane Counties, Washington, and Kootenai County, Idaho. Staff in the Office of Energy Projects has prepared an Environmental Assessment (EA). The Monroe Street development does not occupy any federal or tribal lands.

The EA contains the staff's analysis of the potential environmental impacts of the proposed amendment and concludes that approval of the proposed amendment with staff's modifications would not constitute a major federal action that would significantly affect the quality of the human environment.

The EA is attached to a Commission order issued on July 3, 2001, for the above application. Copies of the EA are available for review at the Commission's Public Reference Room, located at 888 First Street, NE., Washington, DC 20426, or by calling (202) 208-1371. The EA may be viewed on the web at http://www.ferc.gov using the “RIMS” link, select “Docket #” from the RIMS Menu and follow the instructions (please call (202) 208-2222 for assistance).

For further information, contact Steve Hocking at (202) 219-2656.

David P. Boergers,
Secretary.

[FR Doc. 01-17179 Filed 7-9-01; 8:45 am]

BILLING CODE 6717-01-P